DEPARTMENT OF TRANSPORTATION

Federal Railroad Administration

[Docket Number FRA-2005-23226]

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR part 236 as detailed below.

Applicant: Burlington Northern and Santa Fe Railway, Mr. Ralph E. Young, Director Signal Engineering, 4515 Kansas Avenue, Kansas City, Kansas 66106-1199.

The Burlington Northern and Santa Fe Railway (BNSF) seeks relief from the requirements of the Rules, Standard and Instructions, Title 49 CFR, Part 236, Section 236.312, on the Hannibal Bridge, milepost 0.95, in Kansas City, Missouri, on the Nebraska Division, St. Joseph Subdivision, as follows:

1. BNSF requests relief to the extent that they be allowed to use a modified easer bar inspection and test procedure to determine compliance with the rail surface and alignment requirements. The modified procedure uses 5/8 inch as the acceptable tolerance for the amount of easer bar/casting play.

2. BNSF requests relief from the requirement that bridge locking members must be detected within one inch of their proper positions, to the extent that they be permitted to continue using an alternate method of detecting proper swing span seating than that described in the FRA's Technical Manual.

Applicant's justification for relief: BNSF fully expects the actual rail surface and alignment to be maintained within the 3/8 inch required by 236.312; however, BNSF's Bridge Engineers feel that additional easer bar clearance is needed to reliably operate this bridge because of its particular design. The Hannibal Bridge does not have wedges or rollers, and instead has end lifts on each corner of the swing span. BNSF has installed, at great expense, a rather elaborate mechanical proximity sensor device, near the deck level at each of the four corners of the bridge, to detect that the bridge is properly seated. While this approach to detecting locking is not the same as described in the FRA's Technical Manual, BNSF's Bridge Engineers believe it accurately detects when the swing span is properly seated, clearly the intent of the rule. These devices are designed to detect that all four corners are within 3/8 inch of the proper seated position vertically and, on two of the corners, within 3/8 inch of proper horizontal alignment. BNSF respectfully submits that while the method of detecting bridge locking and rail surface/alignment on their Hannibal Bridge might not be conventional or familiar, it is completely safe and complies with the intent of 49 CFR 236.312.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at ­ http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on December 15, 2005.
Grady C. Cothen, Jr.,
Deputy Associate Administrator for Safety Standards and Program Development.

[FR Doc. E5-7570 Filed 12-19-05; 8:45 am]

BILLING CODE 4910-06-P